DEPARTMENT OF LABOR

Employment and Training Administration

[TA-W-64,808]

Fiskars Brand, Inc., Wausau, WI; Notice of Termination of Investigation

Pursuant to Section 221 of the Trade Act of 1974, as amended, an investigation was initiated on January 5, 2009, in response to a worker petition filed by a company official on behalf of workers at Fiskars Brand, Inc., Wausau, Wisconsin.

The petitioner has requested that the petition be withdrawn. Consequently, the investigation has been terminated.

Signed at Washington, DC this 15th day of January 2009.
Linda G. Poole,
Certifying Officer, Division of Trade Adjustment Assistance.

[FR Doc. E9-1492 Filed 1-23-09; 8:45 am]

BILLING CODE 4510-FN-P